THE NATIONAL FOUNDATION ON THE ARTS AND THE HUMANITIES

Meetings of Humanities Panel

AGENCY: The National Endowment for the Humanities.

ACTION: Notice of Meetings.

SUMMARY: Pursuant to the provisions of the Federal Advisory Committee Act (Pub. L. 92-463, as amended), notice is hereby given that the following meetings of Humanities Panels will be held at the Old Post Office, 1100 Pennsylvania Avenue NW., Washington, DC 20506.

FOR FURTHER INFORMATION CONTACT: Lisette Voyatzis, Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or

confidential and/or information of a personal nature the disclosure of which would constitute a clearly unwarranted invasion of personal privacy, pursuant to authority granted me by the Chairman's Delegation of Authority to Close Advisory Committee meetings, dated July 19, 1993, I have determined that these meetings will be closed to the public pursuant to subsections (c)(4), and (6) of section 552b of Title 5, United States Code.

1. Date: April 2, 2012.

Time: 9 a.m. to 5 p.m.

Room: 421.

Program: This meeting will review applications on the subject of American Studies submitted to the America's Media Makers grant program in the Division of Public Programs, at the January 11, 2012 deadline.

2. Date: April 3, 2012.

Time: 8:30 a.m. to 5 p.m.

Room: 315.

Program: This meeting will review applications on the subject of New World Archaeology submitted to the Collaborative Research grant program in the Division of Research Programs, at the December 8, 2011 deadline.

3. Date: April 3, 2012.

Time: 9 a.m. to 5 p.m.

Room: 421.

Program: This meeting will review applications on the subject of Historic Sites and Regions submitted to the America's Historical and Cultural Organizations grant program in the Division of Public Programs, at the January 11, 2012 deadline.

4. Date: April 4, 2012.

Time: 8:30 a.m. to 5 p.m.

Room: 315.

Program: This meeting will review applications on the subjects of Philosophy, Religion, and History of Science submitted to the Collaborative Research grant program in the Division of Research Programs, at the December 8, 2011 deadline.

5. Date: April 5, 2012.

Time: 9 a.m. to 5 p.m.

Room: 415.

Program: This meeting will review applications for The Sustaining Cultural Heritage Collections grant program, submitted to the Division of Preservation and Access, at the December 1, 2011 deadline.

6. Date: April 5, 2012.

Time: 8:30 a.m. to 5 p.m.

Room: 315.

Program: This meeting will review applications on the subject of Social Sciences submitted to the Collaborative Research grant program in the Division of Research Programs, at the December 8, 2011 deadline.

7. Date: April 10, 2012.

Time: 9 a.m. to 5 p.m.

Room: 421.

Program: This meeting will review applications on the subject of Youth Programs and World Cultures submitted to the America's Historical and Cultural Organizations grant program in the Division of Public Programs, at the January 11, 2012 deadline.

8. Date: April 10, 2012.

Time: 9 a.m. to 5 p.m.

Room: 415.

Program: This meeting will review applications for The Sustaining Cultural Heritage Collections grant program, submitted to the Division of Preservation and Access, at the December 1, 2011 deadline.

9. Date: April 11, 2012.

Time: 9 a.m. to 5 p.m.

Room: 421.

Program: This meeting will review applications on the subjects of Anthropology and Ethnic History submitted to the America's Historical and Cultural Organizations grant program in the Division of Public Programs, at the January 11, 2012 deadline.

10. Date: April 13, 2012.

Time: 9 a.m. to 5 p.m.

Room: 421.

Program: This meeting will review applications on the subject of United States History submitted to the America's Media Makers grant program in the Division of Public Programs, at the January 11, 2012 deadline.

11. Date: April 16, 2012.

Time: 9 a.m. to 5 p.m.

Room: M-07.

Program: This meeting will review applications for The Landmarks of American History and Culture Workshops grant program, submitted to the Division of Education Programs, at the March 1, 2012 deadline.

12. Date: April 17, 2012.

Time: 9 a.m. to 5:30 p.m.

Room: 415.

Program: This meeting will review applications for the Challenge Grants for Two-Year Colleges grant program, submitted to the Office of Challenge Grants at the February 2, 2012 deadline.

13. Date: April 17, 2012.

Time: 9 a.m. to 5 p.m.

Room: M-07.

Program: This meeting will review applications for The Landmarks of American History and Culture Workshops grant program, submitted to the Division of Education Programs, at the March 1, 2012 deadline.

14. Date: April 17, 2012.

Time: 9 a.m. to 5 p.m.

Room: 315.

Program: This meeting will review applications for The National Digital Newspaper grant program, submitted to the Division of Preservation and Access at the January 17, 2012 deadline.

15. Date: April 18, 2012.

Time: 9 a.m. to 5 p.m.

Room: 402.

Program: This meeting will review applications for the Digital Humanities Implementation Grants, submitted to the Office of Digital Humanities at the January 24, 2012 deadline.

16. Date: April 18, 2012.

Time: 9 a.m. to 5 p.m.

Room: M-07.

Program: This meeting will review applications for The Landmarks of American History and Culture Workshops grant program, submitted to the Division of Education Programs, at the March 1, 2012 deadline.

17. Date: April 18, 2012.

Time: 9 a.m. to 5 p.m.

Room: 421.

Program: This meeting will review applications on the subject of World Cultures submitted to the America's Media Makers grant program in the Division of Public Programs, at the January 11, 2012 deadline.

18. Date: April 19, 2012.

Time: 9 a.m. to 5 p.m.

Room: 402.

Program: This meeting will review applications for the Digital Humanities Implementation Grants, submitted to the Office of Digital Humanities at the January 24, 2012 deadline.

19. Date: April 19, 2012.

Time: 9 a.m. to 5 p.m.

Room: M-07.

Program: This meeting will review applications for The Landmarks of American History and Culture Workshops grant program, submitted to the Division of Education Programs, at the March 1, 2012 deadline.

20. Date: April 19, 2012.

Time: 9 a.m. to 5 p.m.

Room: 421.

Program: This meeting will review applications on the subject of Art and Music Projects submitted to the America's Historical and Cultural Organizations grant program in the Division of Public Programs, at the January 11, 2012 deadline.

21. Date: April 19, 2012.

Time: 9 a.m. to 5:30 p.m.

Room: 415.

Program: This meeting will review applications for the Challenge Grants for Two-Year Colleges grant program, submitted to the Office of Challenge Grants at the February 2, 2012 deadline.

22. Date: April 23, 2012.

Time: 9 a.m. to 5 p.m.

Room: 315.

Program: This meeting will review applications for the Summer Seminars and Institutes grant program, submitted to the Division of Education Programs, at the March 1, 2012 deadline.

23. Date: April 24, 2012.

Time: 9 a.m. to 5 p.m.

Room: 315.

Program: This meeting will review applications for the Summer Seminars and Institutes grant program, submitted to the Division of Education Programs at the March 1, 2012 deadline.

24. Date: April 25, 2012.

Time: 9 a.m. to 5 p.m.

Room: 315.

Program: This meeting will review applications for the Summer Seminars and Institutes grant program, submitted to the Division of Education Programs at the March 1, 2012 deadline.

25. Date: April 25, 2012.

Time: 9 a.m. to 5 p.m.

Room: 402.

Program: This meeting will review applications for the Digital Humanities Implementation Grants, submitted to the Office of Digital Humanities at the January 24, 2012 deadline.

26. Date: April 26, 2012.

Time: 9 a.m. to 5 p.m.

Room: 402.

Program: This meeting will review applications for the Digital Humanities Implementation Grants, submitted to the Office of Digital Humanities at the January 24, 2012 deadline.

27. Date: April 26, 2012.

Time: 9 a.m. to 5 p.m.

Room: 315.

Program: This meeting will review applications for the Summer Seminars and Institutes grant program, submitted to the Division of Education Programs at the March 1, 2012 deadline.

28. Date: April 30, 2012.

Time: 9 a.m. to 5 p.m.

Room: 315.

Program: This meeting will review applications for the Summer Seminars and Institutes grant program, submitted to the Division of Education Programs at the March 1, 2012 deadline.

Lisette Voyatzis,
Advisory Committee Management Officer.

[FR Doc. 2012-5961 Filed 3-12-12; 8:45 am]

BILLING CODE 7536-01-P